DEPARTMENT OF HEALTH AND HUMAN SERVICES

National Institutes of Health

National Institute on Deafness and Other Communication Disorders; Amended Notice of Meeting

Notice is hereby given of a change in the meeting of the National Institute on Deafness and Other Communications Disorders Special Emphasis Panel, November 5, 2003, 8 a.m. to November 5, 2003, 5 p.m., Hyatt Regency Bethesda, One Bethesda Metro Center, 7400 Wisconsin Avenue, Bethesda, MD 20814, which was published in the Federal Register on September 29, 2003, 68 FR 55973.

The meeting will be held on November 17, 2003 at the Hyatt Regency Bethesda. The meeting is closed to the public.

Dated: October 9, 2003.
LaVerne Y. Stringfield,
Director, Office of Federal Advisory Committee Policy.

[FR Doc. 03-26356 Filed 10-17-03; 8:45 am]

BILLING CODE 4140-01-M